DEPARTMENT OF ENERGY

Federal Energy Regulatory Commission

[Docket No. TX02-1-002]

Pinnacle West Capital Corp.; Notice of Technical Conference

October 29, 2009.

On July 15, 2008, Electrical District No. 3 of the County of Pinal, State of Arizona (ED-3) submitted for filing, pursuant to sections 211 and 212 of the Federal Power Act,¹ a change to the transmission service agreement (service agreement) between ED-3 and Pinnacle West Capital Corporation (Pinnacle West). Take notice that the Commission staff will hold a technical conference on November 19, 2009, from 9 a.m. to 5 p.m. (Eastern Time) in room 3M-3 at the Federal Energy Regulatory Commission, 888 First Street, NE., Washington, DC 20426.

¹ 16 U.S.C. 824j, 824k (2006).

The purpose of this technical conference is to obtain additional information regarding ED-3's submittal in order that the Commission staff is able to develop a complete record for review. Specifically, the conference is to focus on issues related to the degree of integration of the ED-3 transmission and distribution system. In order to facilitate this discussion, the Commission staff will seek additional information regarding, but not limited to, the following:

1. The topology and operational characteristics of ED-3's transmission and distribution systems.

2. How ED-3 delineates transmission and distribution facilities;

3. The point(s) of receipt for energy received from the Arizona Public Service Company (APS) system; the point(s) of interconnection where energy is delivered to APS customers; the location of lines (indicate voltage levels), transformers, breakers, switches, meters used to serve such customers; APS extensions used to serve APS load outside of the ED-3 system; and the location of facilities currently under construction and planned for the next five years;

4. Whether there are there any customers other than APS served simultaneously from the point(s) or connected to the line(s) where APS customers receive energy; and,

5. Identification of all paths by which APS customers are served and the identification of any alternative paths by which APS customers may be served in both normal system state and during contingencies.

ED-3 should be prepared to provide a brief presentation to address the above information as well as provide any necessary support for each response. Support for the issues identified above should include color-coded system-wide and voltage level specific one-line diagrams, power flow and other completed system studies, long-term transmission plans, load forecast studies and any additional information that will assist the Commission staff. This information should be filed with the Commission at least ten days prior to the date of the technical conference. The opportunity for comments on any additionally filed supplemental information will be governed by a future Commission notice regarding that filing.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact Christopher Thomas, 202-502-8412, christopher.thomas@ferc.gov, regarding substantive concerns.

Kimberly D. Bose,
Secretary.

[FR Doc. E9-26629 Filed 11-4-09; 8:45 am]

BILLING CODE 6717-01-P